Title 3—

The President

Proclamation 7792 of June 5, 2004

D-Day National Remembrance Day, 2004

By the President of the United States of America

A Proclamation

Sixty years ago, the soldiers, sailors, and airmen of the Allied Expeditionary Force invaded Normandy in northern France to open a new front in our war against Nazism and tyranny. The courage of these troops turned the tide of World War II and changed the fate of the world forever. Their extraordinary service in the face of great danger demonstrated the finest qualities of our Nation and of our Allies, and millions around the world today live in freedom because of their sacrifice. By remembering the heroic actions of our Armed Forces at Utah, Omaha, Gold, Juno, and Sword beaches in 1944, we honor a generation who served this country and saved liberty for people everywhere.

NOW, THEREFORE, I, GEORGE W. BUSH, President of the United States of America, do hereby proclaim June 6, 2004, as D-Day National Remembrance Day. I call upon all Americans to observe this occasion with appropriate activities, ceremonies and programs designed to honor those who served and sacrificed to liberate Europe and defend America's freedom and security.

IN WITNESS WHEREOF, I have hereunto set my hand this fifth day of June, in the year of our Lord two thousand four, and of the Independence of the United States of America the two hundred and twenty-eighth.

B

[FR Doc. 04-13120

Filed 6-7-04; 12:01 pm]

Billing code 3195-01-P